POSTAL SERVICE

39 CFR Part 111

Implementation of New Standards for Intelligent Mail® Barcodes

AGENCY: Postal Service™.

ACTION: Proposed rule.

SUMMARY: On January 7, 2008, we published in the Federal Register (Volume 73, Number 4) an advance notice of our intention to require the use of Intelligent Mail barcodes on all letters and flats mailed at automation prices as of January, 2009. We presented our Intelligent Mail vision and asked for comments from our customers. We described two options for using Intelligent Mail barcodes: The basic option and the full-service option. In this proposed rule, we have summarized comments and are now publishing our revised mailing standards for the use of Intelligent Mail barcodes.

DATES: We must receive your comments on or before May 30, 2008. Early comments are encouraged. Commenters may submit additional comments any time before May 30, 2008.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N, Washington, DC between 9 a.m. and 4 p.m., Monday through Friday.

FOR FURTHER INFORMATION CONTACT: Bill Chatfield, 202-268-7278, Karen Zachok, 202-268-8779, or Uni Han-Norton, 202-268-8437.

SUPPLEMENTARY INFORMATION: Current mailing standards for automation prices require either POSTNET™ barcodes or Intelligent Mail barcodes on letters and flats. Both barcode formats contain routing information, but Intelligent Mail barcodes offer much more. They can include indicators for added services such as Address Change Service and Confirm®, and enable tracking of individual mailpieces throughout our processing system. This additional visibility will enable us to improve service and efficiency, as well as add value to the mail.

We are proposing two options for using Intelligent Mail barcodes. Under the basic option, mailers will use the Intelligent Mail barcode on their letter and flat mailpieces in place of the POSTNET barcode. Under the full-service option, mailers would use unique Intelligent Mail barcodes on mailpieces; use Intelligent Mail Tray and Intelligent Mail Container barcodes; electronically submit postage statements and mailing documentation (when required) before mailings are inducted; and make appointments through the Facility Access and Shipment Tracking (FAST®) system for DBMC, DADC, and DSCF dropshipments. Under the full-service option, when mail owners elect to use their own 6-digit or 9-digit Mailer ID and unique serial numbers for mailpieces, mail preparers would be required to honor the 6-digit or 9-digit Mailer ID and unique numbering as architected by the mail owner.

The Postal Service proposes to offer customers who use the full-service Intelligent Mail option the following benefits: Free start-the clock information to notify mailers when the USPS® takes possession of mailings and free address correction information for mailpieces that do not have the most current address or that are undeliverable for other reasons. In May 2009, all letters and flats requiring a barcode and mailed as First-Class Mail®, Periodicals, Standard Mail®, and Bound Printed Matter would be eligible for full-service prices which will be lower than the basic service (and POSTNET) prices. All references to “May 2009” refer to the date that we implement the May 2009 Mailing Services price changes.

Overview of Comments, and Postal Service Response

We are encouraged by the interest in our Intelligent Mail vision. We received over 400 letters and email messages in response to our advance notice. We received over 2,000 additional comments during our regional outreach sessions with customers. Many commenters shared our enthusiasm for the Intelligent Mail initiative, however, some were concerned about our communication efforts, the timing of the changes, and the specifics of the program such as pricing and Mailer IDs.

Regarding communication, each of our 80 districts held at least one outreach session with customers. We also held Intelligent Mail Symposiums with over 1,000 attendees at four locations. These efforts attracted a broad cross-section of customers and helped us better understand their concerns.

A number of commenters questioned the readiness of mailers and the Postal Service to use Intelligent Mail barcodes by January 2009. In response, we are proposing that the mailing standards and prices for Intelligent Mail barcodes become effective in May 2009 concurrent with the implementation of the annual price change for Mailing Services. Also, POSTNET barcodes will be accepted on automation letters and flats until May 2010. Many commenters sought more information about whether the two options for Intelligent Mail barcodes would be priced differently. The announcement of our May 2009 price adjustment will include separate prices for the two options, with full-service prices lower than the basic service (and POSTNET) prices.

Many commenters raised concerns about our intention to require the mail “owner's” Mailer ID in the barcode for full-service mailings. In response, this proposal includes an alternative way to identify the mail owner through electronic documentation.

Commenters noted two concerns regarding the use of pallets or other containers such as rolling stock: The lack of standards for containerization of First-Class Mail letters or flats; and a possible new requirement for origin-entry containerization of full-service mailings. This proposal does not include new containerization standards. Container barcodes and labels will only be required when mailers prepare containers required by standards or a customer/supplier agreement with USPS. We continue to work with the mailing industry on containerization in general. Any new containerization standards would be the subject of a separate proposal.

Many commenters questioned the need to make appointments via our FAST system for First-Class Mail and for origin-entered mailings of all classes when accepted at a detached mail unit (DMU). At this time we are not proposing required FAST appointments for First-Class Mail or for any origin-entered mailings. FAST appointments will continue to be required for dropshipments to applicable DBMC, DADC, or DSCF destinations for Periodicals, Standard Mail, and Package Services mailpieces. Use of FAST enables us to validate appointments and provide information to mailers regarding receipt of mailings.

Some commenters asked whether ZIP+4 barcodes would continue to be eligible for automation flats prices. This proposal includes the requirement for delivery point barcodes on automation flats, effective May 2009. Current standards in DMM 708.4 apply when mailpieces are addressed for delivery to an address with a unique 5-digit ZIP Code™ or unique ZIP+4™ Code.

Many commenters sought more information on barcode requirements for reply mail. We are proposing barcodes for letters and flats reply mail (Business Reply Mail®, Courtesy Reply Mail™, Meter Reply Mail, and Permit Reply Mail) be in the Intelligent Mail format and include a Mailer ID and a BRM Service Type ID as of May 2010. Formatting of the Intelligent Mail barcode used on reply mail will be similar to that for outgoing mailpieces.

Some commenters were concerned about the longevity of the basic option. We are not proposing that the basic option be temporary. Intelligent Mail barcodes are information-rich and have the capability to convey more information than POSTNET barcodes, even when they are on mailpieces that are not part of full-service mailings.

There was also uncertainty about the Intelligent Mail barcode's use on parcels and Not Flat-Machinable pieces. This proposal applies only to letter-size and flat-size mailings. We are refining standards for Intelligent Mail package barcodes and will publish those details at a later date.

Several commenters asked for more information regarding the use of optional endorsement lines (OELs) and pressure-sensitive bundle labels. We propose that the top piece of a presort bundle of flats must either: (1) Include an OEL, with the information also in the barcode; or, (2) contain a pressure-sensitive bundle label.

Several commenters included a suggestion that “uniqueness” (in terms of unique numbering of mailpieces) be achieved by linking the delivery routing code with the serial number ID. We have considered that proposal, but have determined that for most full-service mailings, the serial number ID in combination with the Mailer ID and Service Type ID will be required for mailpiece uniqueness. It should be noted, however, that when mailers separate trays and containers by price category for mailings of less than 10,000 pieces, mailpieces may have the same serial number on all pieces.

Several commenters expressed a concern about mailing documentation being required to match the physical mail preparation. In most cases, presort software governs the nesting relationship of how mailpieces are placed in handling units such as trays and how trays are placed in containers. In such instances, the nesting of physical mail should match the nesting presented in the electronic documentation. There are some instances, for example in the MLOCR environment, where an exact match of physical mail to electronic documentation is challenging but the total number of pieces sorted to each destination matches the documentation. In those cases, a postage payment system agreement will govern the relationship between physical mail and electronic documentation.

A few commenters questioned the ability of Postage Statement Wizard® (PSW) to provide electronic mailing documentation for full-service mailings. PSW enables electronic submission of postage statements, which would meet the requirement for full-service mailings of less than 10,000 pieces that do not require accompanying documentation, such as permit imprint mailings of identical-weight pieces separated by price category, or mailings with the exact postage affixed to each piece.

Many commenters sought clarification regarding the availability of free address correction notices. We would provide free automated address correction notices for correctly formatted mailpieces (in a full-service mailing) that have the appropriate ancillary service request (either Address Service Requested or Change Service Requested) in their mailer profile and embedded in Intelligent Mail barcodes.

Some commenters expressed concern about the 10/24 barcode format for Intelligent Mail Tray labels. Mailers will be able to use the 10/24 label before May 2009. They will have the option to migrate to the 24-digit barcoded label starting in May 2009. Specifications for the 24-digit Intelligent Mail Tray label will be available in the near future; however, the 24-digit label must not be used in mailings presented before May 2009.

We also received many questions about issues that are already covered by mailing standards in the current Mailing Standards of the United States Postal Service, Domestic Mail Manual (DMM®). For instance, barcode placement standards are in DMM 202.5, 302.4, and 708.4. Standards regarding the use of Intelligent Mail barcodes with Confirm Service are in DMM 503.13.3, and OneCode ACS™ are in DMM 507.4.2. We have a frequently asked questions (FAQs) section about Intelligent Mail barcodes on our Intelligent Mail Web site at ribbs.usps.gov/Onecodesolution/. We also will provide more information in our online publication, A Guide to Electronic Documentation and Appointments for Full-Service Mailings, available online by the end of April 2008.

Summary of Changes and Implementation

We currently allow and encourage mailers to use Intelligent Mail barcodes on their letters and flats to qualify for automation prices according to standards in DMM 202.5, 302.4 and 708.4, with technical specifications available on RIBBS at http://ribbs.usps.gov/OneCodeSolution/.

In May 2009, we would implement the following:

• Updated requirements for Intelligent Mail barcodes, or POSTNET barcodes, with delivery point routing information on letters and flats requiring a barcode.

• Separate prices for the full-service and basic Intelligent Mail options. Full-service mailings would also enjoy the benefits of free address correction information, and “start-the-clock” information which will document when the Postal Service has taken possession of each mailing.

In May 2010, we would implement the following:

• Requirements for Intelligent Mail barcodes with delivery point routing information on all letters and flats requiring a barcode.

• Intelligent Mail barcodes would also be required for Business Reply Mail and other reply mail, to the extent that other reply mail requires barcodes.

Although we are exempt from the notice and comment requirements of the Administrative Procedure Act [5 U.S.C. of 553 (b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

Mailing Standards of the United States Postal Service, Domestic Mail Manual (DMM)

* * * * *

200 Discount Letters and Cards

201 Physical Standards

* * * * *

3.0 Physical Standards for Automation Letters and Cards

* * * * *

3.14 Enclosed Reply Cards and Envelopes

3.14.1 Basic Standards

* * * * *

[Revise item b of 3.14.1 to require the use an Intelligent Mail barcode on all reply pieces enclosed in automation price mailings effective May 2010 as follows:]

b. Each BRM piece must bear the correct BRM ZIP+4 barcode; each Meter Reply Mail, Courtesy Reply Mail, and Permit Reply Mail piece must bear the correct delivery point barcode for the delivery address, subject to 202.5.0, Barcode Placement. All pieces must bear POSTNET barcodes (until May, 2010) or Intelligent Mail barcodes, subject to 708.4, Standards for POSTNET and Intelligent Mail Barcodes.

* * * * *

230 First-Class Mail

233 Prices and Eligibility

1.0 Prices and Fees for First-Class Mail

* * * * *

1.3 Presorted and Automation Prices for Cards and Letters

[Revise price table to establish new full-service automation prices as follows:]

[Placeholder for price table.]

* * * * *

5.0 Additional Eligibility Standards for Automation First-Class Mail Letters

5.1 Basic Standards for Automation First-Class Mail Letters

All pieces in a First-Class Mail automation mailing must:

* * * * *

[Revise item e of 5.1 as follows:]

e. Bear an accurate delivery point POSTNET barcode (until May 2010) or an Intelligent Mail barcode that accurately encodes the following fields: barcode ID, service type ID, Mailer ID, serial number encoded with digits of the mailer's choice, and delivery point routing code. All barcodes must match the delivery address and meet the standards in 202.5.0, Barcode Placement, and 708.4.0, Standards for POSTNET and Intelligent Mail Barcodes. Mailers must apply the barcode either on the piece or on an insert showing through a window.

* * * * *

[Renumber current 233.5.2 through 233.5.5 as 233.5.3 through 233.5.6.]

[Add a new 233.5.2 as follows:]

5.2 Additional Eligibility Standards for Full-Service Automation First-Class Mail Letters

All mailings entered under full-service automation prices according to standards in 705.21 must:

a. Use a unique Intelligent Mail barcode on all pieces.

b. Use unique Intelligent Mail Tray labels on all trays.

c. Use unique Intelligent Mail Container barcodes on all pallets and other containers used to transport mail, if required by a customer/supplier agreement with USPS.

d. Use an approved electronic method to transmit a postage statement and mailing documentation to the PostalOne! system.

* * * * *

5.6 Reply Cards and Envelopes Enclosed in Automation First-Class Mail

[Revise the first sentence of 5.5 to specifically note the requirement to use a barcode on all reply pieces in automation mailings as follows:]

All letter-size reply cards and envelopes provided as enclosures in automation First-Class Mail and addressed for return to a domestic delivery address must meet the standards in 201.3.0, Physical Standards for Automation Letters and Cards (including a barcode as required under 201.3.14), for enclosed reply cards and envelopes. * * *

* * * * *

234 Postage Payment and Documentation

* * * * *

4.0 Mailing Documentation

* * * * *

[Renumber current 234.4.4 through 234.4.9 as 234.4.5 through 234.4.10 and add a new 234.4.4 as follows:]

4.4 Documentation Submission—Full-Service Automation Prices

Mailers entering First-Class Mail pieces at full-service automation prices must electronically submit postage statements and mailing documentation to the PostalOne! system as described in 705.21.3.4.

* * * * *

235 Mail Preparation

* * * * *

4.0 Tray Labels

* * * * *

4.9 Barcoded Tray Labels

4.9.1 Basic Standards for Barcoded Tray Labels

[Revise 4.9.1 by adding a new second sentence as follows:]

* * * Intelligent Mail Tray labels must be used with mailings entered at full-service automation prices. * * *

* * * * *

240 Standard Mail

243 Prices and Eligibility

1.0 Prices and Fees for Standard Mail

* * * * *

1.3 Regular Standard Mail—ECR and Automation Prices

[Revise price table to establish new full-service automation prices as follows:]

[Placeholder for new price table.]

* * * * *

6.0 Additional Eligibility Standards for Enhanced Carrier Route Standard Mail Letters

6.1 General Enhanced Carrier Route Standards

* * * * *

6.1.2 Basic Eligibility Standards

All pieces in an Enhanced Carrier Route or Nonprofit Enhanced Carrier Route Standard Mail mailing must:

* * * * *

[Revise item g of 6.1.2 to require carrier route letters to bear an Intelligent Mail barcode (as of May 2010) as follows:]

g. Must meet the requirements for automation compatibility in 201.3.0 and bear an accurate delivery point POSTNET barcode (until May 2010) or Intelligent Mail barcode encoded with the correct delivery point routing code matching the delivery address and meeting the standards in 202.5.0, Barcode Placement, and 708.4.0, Standards for POSTNET and Intelligent Mail Barcodes. Pieces prepared with a simplified address format are exempt from this requirement.

* * * * *

6.3 Basic Price Enhanced Carrier Route Standards

* * * * *

6.3.2 Basic Price Eligibility

* * * * *

[Revise item a of 6.3.2 to require carrier route letters to bear an Intelligent Mail barcode (as of May 2010) as follows:]

a. Basic letter prices apply to each piece that is automation-compatible according to 201.3.0, Physical Standards for Automation Letters and Cards, and has an accurate delivery point POSTNET barcode (until May 2010) or Intelligent Mail barcode encoded with the correct delivery point routing code matching the delivery address and meeting the standards in 202.5.0, Barcode Placement, and 708.4.0, Standards for POSTNET and Intelligent Mail Barcodes.

* * * * *

6.4 High Density Enhanced Carrier Route Standards

6.4.1 Basic Eligibility Standards for High Density Prices

[Revise the first sentence of 6.4.1 to require carrier route letters to bear an Intelligent Mail barcode (as of May 2010) as follows:]

High density prices apply to each piece that is automation-compatible according to 201.3.0, and has an accurate delivery point POSTNET barcode (until May 2010) or Intelligent Mail barcode encoded with the correct delivery point routing code matching the delivery address and meeting the standards in 202.5.0, Barcode Placement, and 708.4.0, Standards for POSTNET and Intelligent Mail Barcodes. * * *

* * * * *

6.5 Saturation ECR Standards

6.5.1 Basic Eligibility Standards for Saturation Prices

[Revise the first sentence of 6.5.1 to require carrier route letters to bear an Intelligent Mail barcode (as of May 2010) as follows:]

Saturation prices apply to each piece that is automation-compatible according to 201.3.0, and has an accurate delivery point POSTNET barcode (until May 2010) or Intelligent Mail barcode encoded with the correct delivery point routing code matching the delivery address and meeting the standards in 202.5.0, Barcode Placement, and 708.4.0, Standards for POSTNET and Intelligent Mail Barcodes. * * *

* * * * *

7.0 Eligibility Standards for Automation Standard Mail

7.1 Basic Eligibility Standards for Automation Standard Mail

All pieces in a Regular Standard Mail or Nonprofit Standard Mail automation mailing must:

* * * * *

[Revise item e of 7.1 as follows:]

e. Bear a delivery point POSTNET barcode (until May 2010) or an Intelligent Mail barcode that accurately encodes the following fields: Barcode ID, service type ID, Mailer ID, serial number encoded with digits of the mailer's choice, and delivery point routing code. All barcodes must match the delivery address and meet the standards in 202.5.0, Barcode Placement, and 708.4.0, Standards for POSTNET and Intelligent Mail Barcodes. Mailers must apply the barcode either on the piece or on an insert showing through a window.

* * * * *

[Renumber current 243.7.2 through 243.7.6 as 243.7.3 through 243.7.7.]

[Add a new 243.7.2 as follows:]

7.2 Additional Eligibility Standards for Full-Service Automation Standard Mail Letters

All mailings entered under full-service automation prices according to standards in 705.21 must:

a. Use a unique Intelligent Mail barcode on all pieces.

b. Use unique Intelligent Mail Tray labels on all trays.

c. Use unique Intelligent Mail Container barcodes on all destination entry pallets and other containers, or if required by a customer/supplier agreement with USPS.

d. Use an approved electronic method to transmit a postage statement and mailing documentation to the PostalOne! system.

e. Be scheduled for an appointment through the Facility Access and Shipment Tracking (FAST) system when deposited as a DBMC or DSCF drop-shipment.

* * * * *

7.6 Enclosed Reply Cards and Envelopes

[Revise the first sentence of renumbered 7.6 to specifically note the requirement for a barcode on all reply pieces enclosed in automation price mailings as follows:]

All letter-size reply cards and envelopes (Business Reply Mail, Courtesy Reply Mail, Meter Reply Mail, and Permit Reply Mail) provided as enclosures in automation Regular or Nonprofit Standard Mail, and addressed for return to a domestic delivery address, must meet the standards in 201.3.0, Physical Standards for Automation Letters and Cards (including a barcode as required under 201.3.14), for enclosed reply cards and envelopes. * * *

* * * * *

244 Postage Payment and Documentation

* * * * *

4.0 Mailing Documentation

* * * * *

[Renumber current 244.4.4 through 244.4.9 as 244.4.5 through 244.4.10.]

[Add a new 244.4.4 as follows:]

4.4 Documentation Submission—Full-Service Automation Prices

Mailers entering Standard Mail pieces at full-service automation prices must electronically submit postage statements and mailing documentation to the PostalOne! system as described in 705.21.3.4.

* * * * *

245 Mail Preparation

* * * * *

4.0 Tray Labels

* * * * *

4.9 Barcoded Tray Labels

4.9.1 Basic Standards for Barcoded Tray Labels

* * * * *

[Revise 4.9.1 by adding a new item e as follows:]

e. Intelligent Mail Tray labels must be used with mailings entered at full-service automation prices.

* * * * *

300 Discount Flats

330 First-Class Mail

333 Prices and Eligibility

1.0 Prices and Fees for First-Class Mail

* * * * *

1.3 Presorted and Automation Prices for Flats

[Revise price table to establish new full-service automation prices as follows:]

[Placeholder for new price table.]

* * * * *

5.0 Additional Eligibility Standards for Automation Price First-Class Mail Flats

5.1 Basic Standards for Automation First-Class Mail

All pieces in a First-Class Mail automation mailing must:

* * * * *

[Revise item e of 5.1 as follows:]

e. Bear a delivery point POSTNET barcode (until May 2010) or an Intelligent Mail barcode that accurately encodes the following fields: barcode ID, service type ID, Mailer ID, serial number encoded with digits of the mailer's choice, and delivery point routing code. All barcodes must match the delivery address and meet the standards in 302.4.0, Barcode Placement and 708.4.0, Standards for POSTNET and Intelligent Mail Barcodes. Mailers must apply the barcode either on the piece or on an insert showing through a window.

* * * * *

[Renumber current 333.5.2 through 333.5.5 as 333.5.3 through 333.5].

[Add a new 333.5.2 as follows:]

5.2 Eligibility Standards for Full-Service Automation First-Class Mail Flats

All mailings entered under full-service automation prices according to standards in 705.21 must:

a. Use a unique Intelligent Mail barcode on all pieces.

b. Use unique Intelligent Mail Tray labels on all trays.

c. Use unique Intelligent Mail Container barcodes on all pallets and other containers used to transport mail, if required by a customer/supplier agreement with USPS.

d. Use an approved electronic method to transmit a postage statement and mailing documentation to the PostalOne! system.

* * * * *

5.6 Reply Cards and Envelopes Enclosed in Automation First-Class Mail

[Revise the first sentence of 5.6 to specifically note the requirement to use a barcode on all reply pieces enclosed in automation mailings as follows:]

All letter-size reply cards and envelopes provided as enclosures in automation First-Class Mail and addressed for return to a domestic delivery address must meet the standards in 201.3.0, Physical Standards for Automation Letters and Cards (including a barcode as required under 201.3.14), for enclosed reply cards and envelopes. * * *

* * * * *

334 Postage Payment and Documentation

* * * * *

4.0 Mailing Documentation

* * * * *

[Renumber current 334.4.4 through 334.4.9 as 334.4.5 through 334.4.10].

[Add a new 334.4.4 to reflect electronic submission standards at the full-service automation price as follows:]

4.4 Documentation Submission—Full-Service Automation Prices

Mailers entering First-Class Mail flats at full-service automation prices must electronically submit postage statements and mailing documentation, including qualification and container reports, to the PostalOne! system as described in 705.21.3.4.

* * * * *

335 Mail Preparation

* * * * *

4.0 Tray Labels

* * * * *

4.9 Barcoded Tray Labels

4.9.1 Basic Standards for Barcoded Tray Labels

* * * * *

[Revise 4.9.1 by adding a new item e as follows:]

e. Intelligent Mail Tray labels must be used with mailings entered at full-service automation prices.

* * * * *

340 Standard Mail

343 Prices and Eligibility

1.0 Prices and Fees for Standard Mail

* * * * *

1.3 Regular Standard Mail—Presorted, Enhanced Carrier Route, and Automation Prices

[Revise price table to establish new full-service automation prices as follows:]

* * * * *

7.0 Additional Eligibility Standards for Automation Standard Mail Flats

7.1 Basic Eligibility Standards for Automation Standard Mail

All pieces in a Regular Standard Mail or Nonprofit Standard Mail automation mailing must:

* * * * *

[Revise item e as follows:]

e. Bear a delivery point POSTNET barcode (until May, 2010) or an Intelligent Mail barcode that accurately encodes the following fields: barcode ID, service type ID, Mailer ID, serial number encoded with digits of the mailer's choice, and delivery point routing code. All barcodes must match the delivery address and meet the standards in 302.4.0, Barcode Placement and 708.4.0, Standards for POSTNET and Intelligent Mail Barcodes. Mailers must apply the barcode either on the piece or on an insert showing through a window.

* * * * *

[Renumber current 343.7.2 through 343.7.4 as 343.7.3 through 343.7.5].

[Add a new 343.7.2 as follows:]

7.2 Eligibility Standards for Full-Service Automation Standard Mail Flats

All mailings entered under full-service automation prices according to standards in 705.21 must:

a. Use a unique Intelligent Mail barcode on all pieces.

b. Use unique Intelligent Mail Tray labels on all trays and sacks.

c. Use unique Intelligent Mail Container barcodes on all destination-entry pallets and other containers, or if required by a customer/supplier agreement with USPS.

d. Use an approved electronic method to transmit a postage statement and mailing documentation to the PostalOne! system.

e. Be scheduled for an appointment through the Facility Access and Shipment Tracking (FAST) system when deposited as a DBMC or DSCF drop-shipment.

7.5 Enclosed Reply Cards and Envelopes

[Revise the first sentence of renumbered 7.5 to specifically note the requirement to use a barcode on all reply pieces enclosed in automation mailings as follows:]

All letter-size reply cards and envelopes (Business Reply Mail, Courtesy Reply Mail, Meter Reply Mail, and Permit Reply Mail) provided as enclosures in automation Regular or Nonprofit Standard Mail, and addressed for return to a domestic delivery address, must meet the standards in 201.3.0, Physical Standards for Automation Letters and Cards (including a barcode as required under 201.3.14), for enclosed reply cards and envelopes. * * *

* * * * *

344 Postage Payment and Documentation

* * * * *

4.0 Mailing Documentation

* * * * *

[Renumber current 344.4.4 through 344.4.9 as 344.4.5 through 344.4.10.]

[Add a new 344.4.4 as follows:]

4.4 Documentation Submission—Full-Service Automation Prices

Mailers entering Standard Mail pieces at full-service automation prices must electronically submit postage statements and mailing documentation, including qualification and container reports, to the PostalOne! system as described in 705.21.3.4.

* * * * *

345 Mail Preparation

* * * * *

4.0 Sack and Tray Labels

* * * * *

4.8 Use of Barcoded Sack and Tray Labels

* * * * *

[Revise 4.8 by adding a new item e as follows:]

e. Intelligent Mail Tray labels must be used on all trays and sacks for mailings entered at full-service automation prices.

* * * * *

360 Bound Printed Matter

363 Prices and Eligibility

1.0 Prices and Fees for Bound Printed Matter

1.1 Nonpresorted Bound Printed Matter

* * * * *

1.1.4 Barcoded Discount-Flats

[Revise 363.1.1.4 to require BPM claiming a barcode discount price to be automation-compatible and bear an Intelligent Mail barcode by May 2010 as follows:]

The barcoded discount applies only to BPM flat-size pieces that meet the requirements for automation compatibility in 301.3.0 and bear a delivery point POSTNET barcode (until May 2010) or Intelligent Mail barcode encoded with the correct delivery point routing code matching the delivery address and meeting the standards in 302.4.0 and 708.4.0. The pieces must be part of a nonpresorted mailing of 50 or more flat-size pieces.

* * * * *

4.0 Price Eligibility for Bound Printed Matter Flats

4.1 Price Eligibility

BPM prices are based on the weight of a single addressed piece or 1 pound, whichever is higher, and the zone (where applicable) to which the piece is addressed. Price categories are as follows:

* * * * *

[Revise item d of 363.4.1 to require BPM claiming a barcode discount price to be automation-compatible and bear an Intelligent Mail barcode by May 2010 as follows:]

d. Barcoded Discount—Flats. The barcoded discount applies only to BPM flat-size pieces that meet the requirements for automation compatibility in 301.3.0 and bear a delivery point POSTNET barcode (until May 2010) or Intelligent Mail barcode encoded with the correct delivery point routing code matching the delivery address and meeting the standards in 302.4.0 and 708.4.0. The pieces must be part of a nonpresorted mailing of 50 or more flat-size pieces or part of a presort mailing of at least 300 BPM flat-size pieces prepared under 705.8.0, Preparing Pallets, and 365.7.0, Preparing Barcoded Flats. The barcoded discount is not available for flat-size pieces mailed at Presorted DDU prices or carrier route prices.

* * * * *

6.0 Additional Eligibility Standards for Barcoded Bound Printed Matter Flats

6.1 Basic Eligibility Standards for Barcoded Bound Printed Matter

[Revise 6.1 by revising the first sentence and adding a new second sentence as follows:]

The barcode discount applies only to BPM flat-size pieces that bear a delivery point POSTNET barcode (until May 2010) with an accurate delivery point routing code or an Intelligent Mail barcode that accurately encodes the following fields: barcode ID, service type ID, Mailer ID, serial number encoded with digits of the mailer's choice, and delivery point routing code. All barcodes must match the delivery address and meet the standards in 708.4.0, Standards for POSTNET and Intelligent Mail Barcodes. * * *

* * * * *

[Renumber current 363.6.2 through 363.6.3 as 363.6.3 through 363.6.4.]

[Add a new 363.6.2 as follows:]

6.2 Eligibility Standards for Full-Service Automation Bound Printed Matter Flats

All mailings entered under full-service automation prices according to standards in 705.21 must:

a. Use a unique Intelligent Mail barcode on all pieces.

b. Use unique Intelligent Mail Tray labels on all sacks.

c. Use unique Intelligent Mail Container barcodes on all destination-entry pallets and other containers, or if required by a customer/supplier agreement with USPS.

d. Use an approved electronic method to transmit a postage statement and mailing documentation to the PostalOne! system.

e. Be scheduled for an appointment through the Facility Access and Shipment Tracking (FAST) system when deposited as a DBMC or DSCF dropshipment.

* * * * *

364 Postage Payment and Documentation

* * * * *

2.0 Mailing Documentation

* * * * *

[Renumber current 364.2.4 through 364.2.9 as 364.2.5 through 364.2.10.]

[Add a new 364.2.4 as follows:]

2.4 Documentation Submission—Full-Service Automation Prices

Mailers entering BPM pieces at the full-service automation prices must electronically submit postage statements and mailing documentation to the PostalOne! system as described in 705.21.3.4.

* * * * *

365 Mail Preparation

* * * * *

4.0 Sack Labels

* * * * *

4.9 Basic Standards for Barcoded Sack Labels

* * * * *

[Revise 4.9 by adding a new item e as follows:]

e. Intelligent Mail Tray labels (see 708.6.0) must be used on sacks for mailings entered at full-service automation prices.

* * * * *

500 Additional Services

* * * * *

507 Mailer Services

* * * * *

9.0 Business Reply Mail (BRM)

* * * * *

9.3 Qualified Business Reply Mail (QBRM) Basic Standards

* * * * *

9.3.1 Description

Qualified Business Reply Mail (QBRM) is First-Class Mail that:

* * * * *

[Revise item f of 9.3.1 to require use of an Intelligent Mail barcode on all barcoded BRM effective May 2010 as follows:]

f. Bears the correct POSTNET barcode (until May 2010) or Intelligent Mail barcode that corresponds to the unique ZIP+4 code for the address on each piece distributed. The barcode must be correctly prepared under 9.9 and 708.4.0.

* * * * *

9.8 Format Elements

* * * * *

9.8.6 Delivery Address

* * * * *

[Revise item a of 9.8.6 to require use of an Intelligent Mail barcode on all barcoded BRM effective May 2010 as follows:]

a. Preprinted labels with only delivery address information, including a POSTNET ZIP+4 barcode (until May 2010) or an Intelligent Mail barcode under 9.9, are permitted, but the permit holder's name and other required elements must be printed directly on the BRM piece.

* * * * *

[Revise the title and text of 9.9 to require use of an Intelligent Mail barcode on all letter-size and flat-size BRM effective May 2010 as follows:]

9.9 Additional Standards for Letter-Size and Flat-Size BRM

In addition to the format standards in 9.8, letter-size BRM enclosed in automation mailings and all QBRM must be ZIP+4 barcoded with a ZIP+4 POSTNET barcode (until May 2010) or an Intelligent Mail barcode. Intelligent Mail barcodes must contain the barcode ID, service type ID, Mailer ID, and correct ZIP+4 routing code, as specified under 708.4.3. Effective May 2010, all letter-size and flat-size BRM pieces, must bear accurately encoded Intelligent Mail barcodes that include ZIP+4 routing codes assigned by the USPS. Until May 2010, BRM letters and flats may be barcoded at the permit holder's option. Barcoded BRM must meet the barcode standards in 708.4.0, the envelope basis weight standards in 9.7.1, all other mailpiece design standards in 201.3.0 (including thickness), and these standards:

* * * * *

700 Special Standards

* * * * *

705 Advanced Preparation and Special Postage Payment Systems

* * * * *

8.0 Preparing Pallets

* * * * *

8.5 General Preparation

* * * * *

8.6 Pallet Labels

8.6.1 Placement

[Revise the first sentence of 8.6.1 and add a new second sentence as follows:]

At least two clearly visible labels must be affixed on two adjacent sides of each pallet, except for pallet labels with Intelligent Mail Container barcodes, which require three labels as specified in 708.6.7. Pallets prepared through plant-load or drop-shipment agreements must be placed on transportation so that a pallet label faces toward the rear of the vehicle.

* * * * *

8.6.2 Specifications

[Revise 8.6.2 to reference Intelligent Mail Container barcoded pallet labels as follows:]

Pallet labels must be pink for Periodicals mail or white for Standard Mail, and Package Services mail. Pallet labels must measure at least 8-1/2 inches by 11 inches, except that pallet or other USPS container labels including Intelligent Mail Container barcodes may measure 4 inches by 7 inches when prepared under 708.6.7.3. Labels containing Intelligent Mail Container barcodes must meet the standards for Intelligent Mail Container labels in DMM 708.6.7 and the RIBBS Web site at ribbs.usps.gov/OneCodeSolution/.

* * * * *

[Add new 705.21 to describe the conditions for full-service automation prices as follows:]

21.0 Full-Service Automation Prices

21.1 Description

Access to full-service automation prices requires the use of Intelligent Mail barcodes to uniquely identify each mailpiece. Full-service automation mailings require Intelligent Mail barcodes on mailpieces, Intelligent Mail Tray labels on trays and sacks, and Intelligent Mail Container labels on pallets or similar containers, when containers are required. Additional requirements include the use of an approved electronic method to transmit postage statements and mailing documentation to the USPS (describing how mailpieces are linked to trays or sacks, if applicable, and containers) and scheduling dropship appointments through the Facility Access and Shipment System (FAST).

21.2 Eligibility Standards

All mailings at full-service automation prices must:

a. Meet all other standards applicable for automation mailings of the applicable class, shape, and content.

b. Use an accurately encoded Intelligent Mail barcode, including a delivery point routing code, on each mailpiece.

c. Use accurately encoded Intelligent Mail Tray labels on all trays and sacks.

d. Use accurately encoded Intelligent Mail Container barcodes on all pallets or other containers used to transport mail (see 21.3.6) when containers are required.

e. Use an approved electronic method as described in 21.3.4 to transmit postage statements and mailing documentation to the USPS.

f. Be scheduled for an appointment through the Facility Access and Shipment Tracking (FAST) system, when required under 21.3.5.

21.3 Preparation

21.3.1 Intelligent Mail Barcodes

Mailers must include an Intelligent Mail barcode on each mailpiece as described in 708.4 that accurately encodes the following fields:

a. Barcode ID.

b. Service Type ID.

c. Mailer ID. The Mailer ID field can be populated with the Mailer ID of the mail owner or mail preparer, based on what information is included in the electronic documentation (see 21.3.4)

d. Serial number. Except for mail prepared under 21.4.3, each mailpiece must be encoded with a unique serial number. Mailers must ensure that these numbers remain unique for a period of at least 45 days. Serial numbers associated to an individual Mailer ID must not be duplicated within this 45-day period, regardless of the entry location.

e. Delivery point routing code. All Intelligent Mail barcodes must include an accurate delivery point routing code.

21.3.2 Intelligent Mail Tray Labels

All trays and sacks must contain accurately encoded Intelligent Mail Tray labels as described in 708.6.6. Mailing documentation, when required, must associate each mailpiece to a corresponding tray or sack, if applicable, as described in 21.3.4. Each tray or sack must be encoded with a unique serial number. Tray or sack serial numbers associated to an individual Mailer ID cannot be duplicated within a 45-day period, regardless of the acceptance location.

21.3.3 Intelligent Mail Container Labels

All required pallets and similar containers (such as all-purpose containers, hampers, and gaylords) must display container labels that include accurately encoded Intelligent Mail Container barcodes as described in 708.6.7. Mailing documentation, when required, must associate each mailpiece (and tray or sack, if applicable) to a corresponding container as described in 21.3.4, unless otherwise authorized by a customer/supplier agreement with USPS. Each container must be encoded with a unique serial number. Container serial numbers associated to an individual Mailer ID must not be duplicated within a 45-day period, regardless of the acceptance location.

21.3.4 Electronic Documentation

Mailers must electronically submit postage statements and mailing documentation (when required) to the PostalOne! system. Unless otherwise authorized, documentation must describe how each mailpiece is linked to a uniquely identified tray or sack, if applicable, and how each mailpiece and tray or sack is linked to a uniquely identified container. See A Guide to Electronic Documentation for Full-Service Mailings (available on the RIBBS website at ribbs.usps.gov/) for more information. Mailers must transmit postage statements and mailing documentation to the PostalOne! system using Mail.dat, Wizard Web Services, or Postage Statement Wizard (see 21.4.3)

21.3.5 Scheduling Appointments

Mailers must schedule appointments using the Facility Access and Shipment Tracking (FAST) system for drop-ship mailings (except DDU). Mailers may schedule appointments online using the FAST website at fast.usps.com or they may submit appointment requests through PostalOne! FAST Web Services at http://www.uspspostalone.com, using the Transaction Messaging specifications.

21.3.6 Preparation of Containers

Mailings at full-service automation prices may be containerized, when volume warrants, in uniquely identified containers (see 21.3.4) by palletizing bundles, sacks, or trays under standards in 705.8. Mailers who are required to containerize must make all separations when the volume for any presort level meets a required sortation level, as described in 705.8.5.2.

21.4 Additional Standards

21.4.1 Induction Data

Mailers accessing full-service automation prices will receive mail induction information (start-the-clock data corresponding to the date and time when the USPS receives the mailing) at no additional charge.

21.4.2 Address Correction Service

Mailers accessing full-service prices will receive free address correction notices when encoding Intelligent Mail barcodes with Address Service or Change Service ancillary service requests. The mailer will apply the appropriate service type ID in the Intelligent Mail barcode to match the ancillary service requested. A full description of mail disposition and address correction combinations is in 507.1.5 by class of mail. A complementary ancillary service request option must also be recorded in the mailer's ACS mailer profile. Address Correction Service for mailpieces in full-service mailings is available for:

a. First-Class Mail letters and flats. b. Periodicals letters and flats (printed on-piece endorsement not required). c. Standard Mail letters and flats and Bound Printed Matter flats. Standard Mail and BPM pieces require the use of a printed on-piece endorsement in addition to encoding the ancillary service request into the Intelligent Mail barcode. See 507.4.2 for additional standards.

21.4.3 Special Standards—Postage Statement Wizard

When using Postage Statement Wizard for mailings of fewer than 10,000 pieces, when postage is affixed to each piece at the correct price or when each piece is of identical weight and the mailpieces are separated by price, the serial number field of each Intelligent Mail barcode can be populated with a mailing serial number that is unique to the mailing but common to all pieces in the mailing. This unique mailing serial number must not be reused for a period of 45 days from the date of mailing. Unique mailing serial numbers must be populated in the Postage Statement Wizard entry screen field. Mailers entering mailings under 21.4.3 must populate the serial number field of all Intelligent Mail tray, sack or container label barcodes with the unique mailing serial number used in the Postage Statement Wizard entry screen field and must apply leading zeros as necessary.

* * * * *

707 Periodicals

1.0 Prices and Fees

1.1 Outside-County—Including Science-of-Agriculture

* * * * *

1.1.2 Piece Prices

Per addressed piece:

[Revise price table to establish new “full-service” automation prices as follows:]

[Placeholder for new price table.]

* * * * *

1.2 In-County

* * * * *

1.2.2 Piece Prices

Per addressed piece:

[Revise price table to establish new “full-service” automation prices as follows:]

[Placeholder for new price table.]

* * * * *

14.0 Barcoded (Automation) Price Eligibility

* * * * *

14.1 Basic Standards

* * * * *

[Revise item c of 14.1 to describe new standards for barcoded Periodicals mailings as follows:]

c. Bear a delivery point POSTNET barcode (until May 2010) with an accurate delivery point routing code or an Intelligent Mail barcode that accurately encodes the following fields: barcode ID, service type ID, mailer ID, serial number encoded with digits of the mailer's choice, and delivery point routing code. All barcodes must match the delivery address and meet the standards in 708.4.0, Standards for POSTNET and Intelligent Mail Barcodes. Mailers must apply the barcode either on the piece or on an insert showing through a window.

* * * * *

14.1.2 Enclosed Reply Cards and Envelopes

[Revise the first sentence of 14.1.2 to specifically note the requirement for a barcode on all reply pieces enclosed in automation price mailings as follows:]

All letter-size reply cards and envelopes provided as enclosures in barcoded Periodicals and addressed for return to a domestic delivery address must meet the standards in 201.3.0, Physical Standards for Automation Letters and Cards (including a barcode as required under 201.3.14), for enclosed reply cards and envelopes. * * *

* * * * *

[Renumber current 707.14.2 through 707.14.4 as 707.14.3 through 707.14.5.]

[Add new 707.14.2 as follows:]

14.2 Eligibility Standards for Full-Service Barcoded (Automation) Periodicals

All mailings entered under full-service automation prices according to standards in 705.21 must:

a. Use a unique Intelligent Mail barcode on all pieces.

b. Use unique Intelligent Mail Tray labels on all trays and sacks.

c. Use unique Intelligent Mail Container barcodes on all required pallets and other containers.

d. Use an approved electronic method to transmit a postage statement and mailing documentation to the PostalOne! system.

e. Be scheduled for an appointment through the Facility Access and Shipment Tracking (FAST) system for mailings deposited as a DBMC, DADC, or DSCF dropshipment.

* * * * *

17.0 Documentation

* * * * *

17.3 Basic Standards for Documentation

* * * * *

17.3.3 Presenting Documentation

[Revise 17.3.3 by adding a new third sentence as follows:]

* * * Mailers entering Periodicals pieces at the full-service barcoded (automation) prices must electronically submit postage statements and mailing documentation to the PostalOne! system as described in 705.21.3.4.

* * * * *

21.0 Sack and Tray Labels

* * * * *

21.4 Use of Barcoded Sack and Tray Labels

[Revise 21.4 by adding a new item e as follows:]

e. Intelligent Mail Tray labels must be used on all trays and sacks for mailings entered at full-service automation prices.

* * * * *

708 Technical Specifications

* * * * *

[Revise title of 708.6.0 to reflect new container label options as follows:]

6.0 Standards for Barcoded Tray, Sack, and Container Labels

[Renumber current 6.1.1 as new 6.2.1 and retain all current text.]

[Renumber current Exhibit 6.1.1 as new Exhibit 6.2.1.]

[Renumber current 6.1.4 as new 6.2.2.]

[Renumber current Exhibit 6.1.4 as new Exhibit 6.2.2.]

[Relocate current 6.1.2, 6.1.3, and 6.1.5 and combine as new 6.3, retaining all current text and exhibits.]

[Renumber current 6.2 as new 6.4.]

[Renumber current 6.3 as new 6.5.]

[Add new 6.1 to provide an overview of the different barcoded labels as follows:]

6.1 General

6.1.1 Tray and Sack Labels

Intelligent Mail Tray labels and standard 10-digit barcoded tray and sack labels are the USPS-approved methods to encode routing, content, and origin information on containers that can be read on Tray Management Systems and other automated processing equipment. Standard 10-digit barcoded tray and sack labels should be used with automation mailings, while Intelligent Mail Tray labels are designed for use with automation mailings of Intelligent Mail barcoded mail. Intelligent Mail Tray labels can also encode tracking information and include other mailer features.

6.1.2 Container Labels

Mailer-generated container labels containing Intelligent Mail Container barcodes identify the mail owner or agent and uniquely identify the unit load (pallet, container, or rolling stock). Intelligent Mail Container barcoded labels are designed to be used with Intelligent Mail barcoded mailpieces and Intelligent Mail Tray labels.

* * * * *

[Add new 6.6 as follows:]

6.6 Intelligent Mail Tray Label

6.6.1 Definition

a. The Intelligent Mail Tray label can be used on all trays and sacks. When correctly formatted barcodes are placed on Intelligent Mail Tray labels, they will uniquely identify each tray and sack in addition to each mailer or mail preparer. To facilitate the transition from the 10-digit tray and sack label to the 24-digit barcoded Intelligent Mail Tray label, a transitional label that includes a 10-digit barcode, using the AIM/USS-I 2/5 symbology, in addition to a 24-digit Intelligent Mail Tray barcode, using International Symbology Specification Code 128 subset C symbology, has been developed. See Exhibit 6.6.1 for an example of the 10/24 transitional label. Mailers using Intelligent Mail Tray labels must print labels in the transitional format or in the 24-digit format (as of May 2009). Detailed specifications for the tray label and barcode formats are available under the Intelligent Mail barcodes link of the RIBBS homepage (see the RIBBS Web site at ribbs.usps.gov).

Exhibit 6.6.1 10/24 Transitional Intelligent Mail Tray Label

[See exhibit in document on the Postal Explorer Web site at http://pe.usps.com, and click on “Federal Register Notices” in the left frame.]

6.6.2 Transitional Intelligent Mail Tray Label Format

The data elements for Intelligent Mail Tray labels are as follows:

a. Printer Line.

b. Tray or Sack Destination (Postal Destination Name).

c. Content Identifier Number (CIN).

d. Office of mailing or mailer information.

e. Destination ZIP Code.

f. Carrier Route information.

g. Mailer ID.

h. 24-digit ISS code 128 subset C barcode numeric line.

i. 10-digit AIM/USS-I 2/5 barcode numeric line.

j. Mailer's Area (for mailer generated information).

6.6.3 Barcode Format

The barcode that a mailer uses depends upon the Mailer ID assigned by the USPS. Upon request by the mailer, USPS assigns a 6-digit or 9-digit Mailer ID based on the mailer's projected mail volume. Intelligent Mail Tray label barcodes contain the following elements:

a. Destination ZIP Code.

b. Content Identifier Number (CIN), as listed in Exhibit 6.2.2.

c. Processing Code, identifying the system or facility generating the label.

d. Mailer ID.

e. Serial Number, a unique number assigned to each tray or sack.

f. Label Type, a default digit.

[Add new 6.7 as follows:]

6.7 Intelligent Mail Container Labels

6.7.1 Definition

Mailer-generated container labels containing Intelligent Mail Container barcodes can be used to identify all pallets, gaylords, and other rolling stock, such as all-purpose containers. Intelligent Mail Container barcodes uniquely identify each container and are scanned at induction and at other points of the mailstream. Detailed specifications for Intelligent Mail Container barcode and pallet labels are available under the Intelligent Mail barcodes link of the RIBBS homepage (see the RIBBS Web site at ribbs.usps.gov).

6.7.2 Label Format

In addition to the general requirements for pallet labels in 705.8.6, Intelligent Mail Container labels (see exhibit 6.7.2) must meet the following requirements:

b. Labels must include a bisecting horizontal line.

c. The top portion of the label is reserved for USPS-required elements, including the Intelligent Mail Container barcode and the “USPS SCAN REQUIRED” endorsement above the barcode.

d. Extraneous information must be placed below the horizontal line.

e. All container labels containing Intelligent Mail Container barcodes must meet the specifications located under the Intelligent Mail barcodes link of the RIBBS homepage (see the RIBBS Web site at ribbs.usps.gov).

f. Labels must be a minimum of 8½ inches high and 11 inches long, except as allowed under 6.7.3.

Exhibit 6.7.2 Intelligent Mail Container Label

[See exhibit in document on the Postal Explorer Web site at http://pe.usps.com, and click on “Federal Register Notices” in the left frame.]

6.7.3 Optional Label Format

Pallet and container labels including Intelligent Mail Container barcodes (see exhibit 6.7.3) may be prepared in an alternate format when affixed to the outside of any shrinkwrap or plastic as follows:

a. Labels must be prepared with the required elements as described in 705.8.6.

b. Labels affixed to the outside of any shrinkwrap or other plastic according to 6.7.5a1 may measure no less than 4 inches high by 7 inches long.

c. Labels containing Intelligent Mail Container barcodes under the optional format must meet the specifications for optional labels located under the Intelligent Mail barcodes link of the RIBBS homepage (see the RIBBS Web site at http://ribbs.usps.gov).

Exhibit 6.7.3. Intelligent Mail Container Label—Optional Format

[See exhibit in document on the Postal Explorer Web site at http://pe.usps.com, and click on “Federal Register Notices” in the left frame.]

6.7.4 Barcode Format

Intelligent Mail Container barcodes are 21 characters in length and contain a USPS-assigned Mailer ID. The format depends upon the Mailer ID assigned by the USPS. Intelligent Mail Container barcodes contain the following elements:

a. Application Identifier, identifying the source of the barcode.

b. Type Indicator, identifying internal or external label generation.

c. Mailer ID.

d. Serial Number, a unique number assigned to each container.

* * * * *

6.7.5 Labeling Requirements

* * * * *

Mailers using container labels including Intelligent Mail Container barcodes must:

a. Place three labels on pallets, one on each of three sides, by either of the following methods:

1. Affix the labels to the outside of shrinkwrap or plastic, when used. Labels must be affixed by a self-adhesive or other adhesive means that will not obscure any required element of the label, and remain secure throughout USPS processing.

2. When placed under shrinkwrap or plastic, cover the label with no more than two layers of shrinkwrap or plastic.

b. Place one label in the designated area on other USPS containers.

* * * * *

We will publish an appropriate amendment to 39 CFR part 111 if our proposal is adopted.

Neva R. Watson,
Attorney, Legislative.

[FR Doc. E8-9502 Filed 4-29-08; 8:45 am]

BILLING CODE 7710-12-P